DEPARTMENT OF ENERGY

Federal Energy Regulatory Commission

[Docket No. RP00-544-001]

Carnegie Interstate Pipeline Company; Notice of Compliance Filing

January 10, 2001.

Take notice that on November 13, 2000, Carnegie Interstate Pipeline Company (CIPCO) tendered for filing as part of its FERC Gas Tariff, Original Volume No. 1, the following tariff sheets, with an effective date of October 1, 2000:

Second Revised Sheet No. 76

Second Revised Sheet No. 87

CIPCO states that the purpose of this filing is to comply with the Commission's Order issued on October 26, 2000.

Any person desiring to protest said filing should file a protest with the Federal Energy Regulatory Commission, 888 First Street, NE., Washington, DC 20426, in accordance with Section 385.211 of the Commission's Rules and Regulations. All such protests must be filed on or before January 17, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-1258 Filed 1-16-01; 8:45 am]

BILLING CODE 6717-01-M